DEPARTMENT OF ENERGY

Federal Energy Regulatory Commission

Combined Notice of Filings # 1

April 25, 2008.

Take notice that the Commission received the following electric corporate filings:

Docket Numbers: EC08-59-000.

Applicants: Harbinger Capital Partners Master Fund I; Harbinger Capital Partners Special Situation.

Description: Supplement to Section 203 Application of Harbinger Capital Partners Master Fund I, Ltd., et al.

Filed Date: 04/24/2008.

Accession Number: 20080425-5028.

Comment Date: 5 p.m. Eastern Time on Monday, May 5, 2008.

Docket Numbers: EC08-74-000.

Applicants: Stargen CO IGP, LLC; Stargen CO ILP, L.L.C., Thermo Cogeneration Partnership L.P.

Description: Stargen CO IGP, LLC and Stargen CO ILP, LLC et al. submits the Joint Application for Authorization Under Section 203 of the Federal Power Act and Request for Confidential Treatment, Expedited Action and Waivers etc.

Filed Date: 04/18/2008.

Accession Number: 20080422-0154.

Comment Date: 5 p.m. Eastern Time on Friday, May 09, 2008.

Docket Numbers: EC08-76-000.

Applicants: Macquarie Group Limited.

Description: Macquarie Group Limited submits application under 203 of the Federal Power Act for a modification of the foreign utility company acquisition verification procedure under rule 33, (c) (5) of the Commission's regulations.

Filed Date: 04/22/2008.

Accession Number: 20080424-0124.

Comment Date: 5 p.m. Eastern Time on Tuesday, May 13, 2008.

Docket Numbers: EC08-77-000.

Applicants: Whiting Clean Energy, Inc., BP Alternative Energy North America, Inc., NiSource Inc., PEI Holdings, Inc.

Description: Whiting Clean Energy, Inc. et al. submits Joint Application for Authorization under 203 of the Federal Power Act and Request for Expedited Treatment.

Filed Date: 04/22/2008.

Accession Number: 20080424-0127.

Comment Date: 5 p.m. Eastern Time on Tuesday, May 13, 2008.

Docket Numbers: EC08-78-000.

Applicants: Duke Energy Ohio, Inc.; Cinergy Corp.; Cinergy Power Investments, Inc.; Generating Facility LLCs.

Description: Application for Authorization of Disposition of Jurisdictional Assets Under Section 203 of the Federal Power Act of Cinergy Corp., et al.

Filed Date: 04/23/2008.

Accession Number: 20080424-5015.

Comment Date: 5 p.m. Eastern Time on Wednesday, May 14, 2008.

Docket Numbers: EC08-79-000.

Applicants: West Valley Leasing Company, LLC; CER Generation II, LLC.

Description: West Valley Leasing Co., LLC and CER Generation II LLC request that FERC authorize the transaction and establish a notice period of 21 days.

Filed Date: 04/22/2008.

Accession Number: 20080425-0010.

Comment Date: 5 p.m. Eastern Time on Tuesday, May 13, 2008.

Take notice that the Commission received the following exempt wholesale generator filings:

Docket Numbers: EG08-65-000.

Applicants: CER Generation II, LLC.

Description: Notice of Self-Certification of Exempt Wholesale Generator Status of CER Generation II, LLC.

Filed Date: 04/22/2008.

Accession Number: 20080422-5149.

Comment Date: 5 p.m. Eastern Time on Tuesday, May 13, 2008.

Docket Numbers: EG08-66-000.

Applicants: Tuolumne Wind Project, LLC.

Description: Notice of Self-Certification of Exempt Wholesale Generator Status for Tuolumne Wind Project LLC.

Filed Date: 04/22/2008.

Accession Number: 20080422-5151.

Comment Date: 5 p.m. Eastern Time on Tuesday, May 13, 2008.

Take notice that the Commission received the following electric rate filings:

Docket Numbers: ER91-569-041.

Applicants: Entergy Services, Inc.

Description: Entergy Arkansas Inc. et al. submits a report to FERC re a non-material change in status pursuant to the requirements of Order 652.

Filed Date: 04/23/2008.

Accession Number: 20080424-0231.

Comment Date: 5 p.m. Eastern Time on Wednesday, May 14, 2008.

Docket Numbers: ER96-2602-009; ER96-2601-020.

Applicants: Dayton Power and Light Company, The; DPL Energy, LLC.

Description: The Dayton Power and Light Co. and DPL Energy, LLC submits a revised and supplement market power analysis etc.

Filed Date: 04/23/2008.

Accession Number: 20080424-0221.

Comment Date: 5 p.m. Eastern Time on Monday, May 5, 2008.

Docket Numbers: ER04-157-027; ER04-714-017; EL05-89-006.

Applicants: Bangor Hydro-Electric Company; New England Transmission Owners; Florida Power & Light Co. New England.

Description: New England Transmission Owners submits compliance filing pursuant to FERC's March 24 Order.

Filed Date: 04/23/2008.

Accession Number: 20080425-0008.

Comment Date: 5 p.m. Eastern Time on Wednesday, May 14, 2008.

Docket Numbers: ER05-1358-003.

Applicants: KGEN Hinds LLC.

Description: Refund Compliance Report of KGen Hinds LLC.

Filed Date: 04/23/2008.

Accession Number: 20080424-5026.

Comment Date: 5 p.m. Eastern Time on Wednesday, May 14, 2008.

Docket Numbers: ER05-1394-003.

Applicants: KGen Hot Spring LLC.

Description: KGen Hot Spring LLC, Refund Report.

Filed Date: 04/23/2008.

Accession Number: 20080423-5092.

Comment Date: 5 p.m. Eastern Time on Wednesday, May 14, 2008.

Docket Numbers: ER05-1419-003.

Applicants: Hot Spring Power Company, LP.

Description: Hot Spring Power Company, LP's Refund Report.

Filed Date: 04/23/2008.

Accession Number: 20080424-5004.

Comment Date: 5 p.m. Eastern Time on Wednesday, May 14, 2008.

Docket Numbers: ER05-1511-001; ER05-1511-002.

Applicants: Noble Thumb Windpark I, LLC.

Description: Noble Thumb Windpark I, LLC withdraws their Notice of Non-Material Change in Status in connection with their 48 MW wind-powered generation project etc.

Filed Date: 04/18/2008.

Accession Number: 20080423-0018.

Comment Date: 5 p.m. Eastern Time on Friday, May 09, 2008.

Docket Numbers: ER06-456-014; ER06-954-010; ER06-1271-009; ER07-424-005.

Applicants: PJM Interconnection L.L.C.

Description: PJM Interconnection, LLC submits its compliance filing to address the Cost Allocations included in the 5/21/07 compliance filing consistent with the PJM Tariff Provisions Accepted in Opinion 494-A.

Filed Date: 04/21/2008.

Accession Number: 20080424-0006.

Comment Date: 5 p.m. Eastern Time on Monday, May 12, 2008.

Docket Numbers: ER06-738-010; ER06-739-010; ER03-983-009; ER07-501-006; ER02-537-013; ER07-758-005.

Applicants: Fox Energy Company LLC, Birchwood Power Partners, L.P., Inland Empire Energy Center, L.L.C., Shady Hills Power Company, L.L.C., Cogen Technologies Linden Ventures, L.P., East Coast Power Liden Holding, LLC; EFS Parlin Holdings LLC.

Description: Notice of Change in Status of East Coast Power Linden Holding, LLC, et al.

Filed Date: 04/21/2008.

Accession Number: 20080422-5083.

Comment Date: 5 p.m. Eastern Time on Monday, May 12, 2008.

Docket Numbers: ER06-1331-002; ER01-2543-004; ER01-2544-004; ER01-2545-004; ER01-2546-004; ER01-2547-004; ER03-1182-005; ER04-698-005; ER99-415-015.

Applicants: CalPeak Power LLC; CalPeak Power-Panoche LLC; CalPeak Power-Vaca Dixon LLC; CalPeak Power-El Cajon LLC; Calpeak Power-Enterprise, LLC; Calpeak Power-Border, LLC; Tyr Energy, LLC; Tor Power, LLC; Commonwealth Chesapeake Company, LLC.

Description: CalPeak Power, LLC et al. submits additional minor revisions to their market-based rate tariffs to comply with Order 697.

Filed Date: 04/22/2008.

Accession Number: 20080424-0204.

Comment Date: 5 p.m. Eastern Time on Tuesday, May 13, 2008.

Docket Numbers: ER08-396-001.

Applicants: Westar Energy, Inc.

Description: Westar Energy, Inc et al. submits Substitute Second Revised Sheet 174 and Substitute Second Revised Sheet 178 to Attachment H-1 of Westar's Open Access Transmission Tariff etc.

Filed Date: 04/22/2008.

Accession Number: 20080423-0024.

Comment Date: 5 p.m. Eastern Time on Tuesday, May 13, 2008.

Docket Numbers: ER08-396-002.

Applicants: Westar Energy, Inc.

Description: Westar Energy, Inc and Kansas Gas and Electric Company submits Substitute First Revised Sheet 175 et al. to Attachment H-1 of their Open Access Transmission Tariff, effective 6/1/08.

Filed Date: 04/23/2008.

Accession Number: 20080424-0237.

Comment Date: 5 p.m. Eastern Time on Wednesday, May 14, 2008.

Docket Numbers: ER08-519-001.

Applicants: California Independent System Operator Corporation.

Description: California Independent System Operator Corporation submits their compliance filing to comply with FERC's directives in the March 31, 2008 Order.

Filed Date: 04/21/2008.

Accession Number: 20080423-0019.

Comment Date: 5 p.m. Eastern Time on Monday, May 12, 2008.

Docket Numbers: ER08-523-001.

Applicants: PJM Interconnection, L.L.C.

Description: PJM Interconnection LLC submits Substitute Fourth Revised Sheet 22A et al. to FERC Electric Tariff, Sixth Revised Volume 1.

Filed Date: 04/23/2008.

Accession Number: 20080424-0233.

Comment Date: 5 p.m. Eastern Time on Wednesday, May 14, 2008.

Docket Numbers: ER08-831-001.

Applicants: Progress Energy, Inc.

Description: Carolina Power & Light and Florida Power Corp submits correction to April 11, 2008 Section 205 filing letter.

Filed Date: 04/22/2008.

Accession Number: 20080423-0020.

Comment Date: 5 p.m. Eastern Time on Tuesday, May 13, 2008.

Docket Numbers: ER08-842-001.

Applicants: New York Independent System Operator, Inc.

Description: New York Independent System Operator, Inc submits revisions to its Open Access Transmission Tariff and Market Administration and Control Area Services Tariff filed on 4/17/08.

Filed Date: 04/23/2008.

Accession Number: 20080424-0160.

Comment Date: 5 p.m. Eastern Time on Wednesday, May 14, 2008.

Docket Numbers: ER08-851-000.

Applicants: Valencia Power, LLC.

Description: Valencia Power, LLC submits proposed FERC Electric Tariff, Original Volume 1.

Filed Date: 04/21/2008.

Accession Number: 20080423-0017.

Comment Date: 5 p.m. Eastern Time on Monday, May 12, 2008.

Docket Numbers: ER08-852-000.

Applicants: Glacial Energy Holdings.

Description: Glacial Energy Holdings request acceptance of FERC Electric Tariff, Original Volume 1 under which Glacial will engage in wholesale electric power and energy transactions and the grant of certain blanket approvals etc.

Filed Date: 04/21/2008.

Accession Number: 20080423-0016.

Comment Date: 5 p.m. Eastern Time on Monday, May 12, 2008.

Docket Numbers: ER08-853-000.

Applicants: Public Service Company of New Mexico.

Description: Public Service Company of New Mexico submits an Engineering, Procurement and Construction Agreement dated 4/11/08 with the High Lonesome Wind Ranch LLC.

Filed Date: 04/21/2008.

Accession Number: 20080423-0015.

Comment Date: 5 p.m. Eastern Time on Monday, May 12, 2008.

Docket Numbers: ER08-854-000.

Applicants: Midwest Independent Transmission System.

Description: Midwest Independent Transmission System Operator, Inc submits a Facilities Construction Agreement.

Filed Date: 04/22/2008.

Accession Number: 20080423-0014.

Comment Date: 5 p.m. Eastern Time on Tuesday, May 13, 2008.

Docket Numbers: ER08-855-000.

Applicants: ISO New England Inc. and New England Power Pool Participants Committee.

Description: ISO New England, Inc and New England Power Pool Participants Committee submits amendments to the ISO Financial Assurance Policies and Billing Policy etc.

Filed Date: 04/22/2008.

Accession Number: 20080423-0013.

Comment Date: 5 p.m. Eastern Time on Tuesday, May 13, 2008.

Docket Numbers: ER08-856-000.

Applicants: Southern Company Services, Inc.

Description: Alabama Power Co et al. submits Revision 6 to the Agreement for Network integration Transmission Service.

Filed Date: 04/22/2008.

Accession Number: 20080423-0021.

Comment Date: 5 p.m. Eastern Time on Tuesday, May 13, 2008.

Docket Numbers: ER08-857-000.

Applicants: Southwestern Public Service Company.

Description: Southwestern Public Service Company submits the proposed electric coordination tariff and demand charge compliance filing, a Power Purchase Agreement dated 10/20/06 with Lea Power Partners, LLC etc.

Filed Date: 04/21/2008.

Accession Number: 20080423-0022.

Comment Date: 5 p.m. Eastern Time on Monday, May 12, 2008.

Docket Numbers: ER08-858-000.

Applicants: PJM Interconnection, L.L.C.

Description: PJM Interconnection LLC submits two executed agreement for long-term point-to-point transmission service with Consolidated Edison Company of New York and a new Schedule C to the Joint Operating Agreement.

Filed Date: 04/22/2008.

Accession Number: 20080424-0005.

Comment Date: 5 p.m. Eastern Time on Tuesday, May 13, 2008.

Docket Numbers: ER08-859-000.

Applicants: Luna Energy Investments LLC.

Description: Luna Energy Investments, LLC submits an amended petition for acceptance of FERC Electric Tariff, Original Volume 1.

Filed Date: 04/22/2008.

Accession Number: 20080424-0004.

Comment Date: 5 p.m. Eastern Time on Tuesday, May 13, 2008.

Docket Numbers: ER08-861-000.

Applicants: New York Independent System Operator, Inc.

Description: New York Independent System Operator Inc et al. submits an executed Large Generator Interconnection Agreement with the Noble Clinton Windpark I, LLC.

Filed Date: 04/23/2008.

Accession Number: 20080424-0235.

Comment Date: 5 p.m. Eastern Time on Wednesday, May 14, 2008.

Docket Numbers: ER08-862-000.

Applicants: Midwest Independent Transmission System.

Description: Midwest Independent Transmission System Operator Inc submits a Transmission to Transmission Interconnection Agreement with Northern States Power Company.

Filed Date: 04/23/2008.

Accession Number: 20080424-0228.

Comment Date: 5 p.m. Eastern Time on Wednesday, May 14, 2008.

Docket Numbers: ER08-863-000.

Applicants: Interstate Power and Light Company.

Description: Interstate Power and Light Company submits Rates for Wholesale Production Service.

Filed Date: 04/23/2008.

Accession Number: 20080424-0227.

Comment Date: 5 p.m. Eastern Time on Wednesday, May 14, 2008.

Docket Numbers: ER08-864-000.

Applicants: Montgomery L' Energia Power Partners LP.

Description: Montgomery L'Energia Power Partners, LP submits an application for authorization to make wholesale sales of energy, capacity and ancillary services at negotiated, market-based rates.

Filed Date: 04/23/2008.

Accession Number: 20080424-0234.

Comment Date: 5 p.m. Eastern Time on Wednesday, May 14, 2008.

Take notice that the Commission received the following electric securities filings:

Docket Numbers: ES08-45-000.

Applicants: American Transmission Company LLC; ATC Management Inc.

Description: Application for Authorization to Issue Securities under Section 204 of the Federal Power Act of American Transmission Company LLC and ATC Management Inc.

Filed Date: 04/23/2008.

Accession Number: 20080424-5012.

Comment Date: 5 p.m. Eastern Time on Wednesday, May 14, 2008.

Take notice that the Commission received the following open access transmission tariff filings:

Docket Numbers: OA07-103-002.

Applicants: Portland General Electric Company.

Description: Portland General Electric Company submits revised tariff sheets for OATT filing to comply with FERC's letter Order No. 890 Attachment C, Compliance Filing issued March 25, 2008.

Filed Date: 04/24/2008.

Accession Number: 20080424-5040.

Comment Date: 5 p.m. Eastern Time on Thursday, May 15, 2008.

Docket Numbers: OA07-83-001.

Applicants: Avista Corporation.

Description: Avista Corporation submits its Compliance filing as required by Letter Order issued March 25, 2008.

Filed Date: 04/24/2008.

Accession Number: 20080424-5090.

Comment Date: 5 p.m. Eastern Time on Thursday, May 15, 2008.

Docket Numbers: OA07-107-001.

Applicants: Tucson Electric Power Company.

Description: Tucson Electric Power Company submits Second Revised Sheet 96 et al. to their FERC Electric Tariff, Fourth Revised Volume 2, effective 9/11/07.

Filed Date: 04/23/2008.

Accession Number: 20080424-0230.

Comment Date: 5 p.m. Eastern Time on Wednesday, May 14, 2008.

Docket Numbers: OA07-108-001.

Applicants: UNS Electric, Inc.

Description: UNG Electric Inc submits Second Revised Sheet 90 et al. to FERC Electric Tariff, First Revised Volume 1.

Filed Date: 04/23/2008.

Accession Number: 20080424-0232.

Comment Date: 5 p.m. Eastern Time on Wednesday, May 14, 2008.

Take notice that the Commission received the following public utility holding company filings:

Docket Numbers: PH08-23-000.

Applicants: Boralex Inc.

Description: FERC-65A Exemption Notification of Boralex Inc.

Filed Date: 04/22/2008.

Accession Number: 20080422-5125.

Comment Date: 5 p.m. Eastern Time on Tuesday, May 13, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-9663 Filed 5-1-08; 8:45 am]

BILLING CODE 6717-01-P